DEPARTMENT OF COMMERCE

International Trade Administration

[A-570-919]

Electrolytic Manganese Dioxide From the People's Republic of China: Final Results of Antidumping Duty Administrative Review; 2021-2022

AGENCY: Enforcement and Compliance, International Trade Administration, Department of Commerce.

SUMMARY: The U.S. Department of Commerce (Commerce) continues to determine that the sole respondent under review, Duracell (China) Limited (DCL), is not eligible for a separate rate and is therefore a part of the China-wide entity. The period of review (POR) is October 1, 2021, through September 30, 2022.

DATES: Applicable February 9, 2024.

FOR FURTHER INFORMATION CONTACT: Krisha Hill or Luke Caruso, AD/CVD Operations, Office IV, Enforcement and Compliance, International Trade Administration, U.S. Department of Commerce, 1401 Constitution Avenue NW, Washington, DC 20230; telephone: (202) 482-4037 or (202) 482-2081, respectively.

SUPPLEMENTARY INFORMATION:

Background

On October 18, 2023, Commerce published in the Federal Register the preliminary results of the 2021-2022 administrative review of the antidumping duty order on electrolytic manganese dioxide from the People's Republic of China (China).¹ We invited interested parties to comment on the Preliminary Results. No parties commented on the Preliminary Results. Accordingly, the Preliminary Results remain unchanged in the final results of this review, and no decision memorandum accompanies this notice.

¹ See Electrolytic Manganese Dioxide from the People's Republic of China: Preliminary Results of Antidumping Duty Administrative Review; 2021-2022, 88 FR 71824 (October 18, 2023) (Preliminary Results).

Scope of the Order ²

² See Antidumping Duty Order: Electrolytic Manganese Dioxide from the People's Republic of China, 73 FR 58537 (October 7, 2008) (Order).

The merchandise covered by the Order includes all manganese dioxide (MnO2) that has been manufactured in an electrolysis process, whether in powder, chip, or plate form. Excluded from the scope are natural manganese dioxide (NMD) and chemical manganese dioxide (CMD). The merchandise subject to the Order is classified in the Harmonized Tariff Schedule of the United States (HTSUS) at subheading 2820.10.00.00. While the HTSUS subheading is provided for convenience and customs purposes, the written description of the scope of the Order is dispositive.

Final Results of Review

Consistent with the Preliminary Results, we continue to determine that the sole respondent under review, DCL, did not establish its eligibility for a separate rate and is part of the China-wide entity.

Disclosure

Because Commerce received no comments on the Preliminary Results, we have not modified our analysis and no decision memorandum accompanies this Federal Register notice. We are adopting the Preliminary Results as the final results of this review. Consequently, there are no calculations to disclose in accordance with 19 CFR 351.224(b) for these final results.

Assessment Rates

Pursuant to section 751(a)(2)(C) of the Act and 19 CFR 351.212(b), Commerce has determined, and U.S. Customs and Border Protection (CBP) shall assess, antidumping duties on all appropriate entries of subject merchandise in accordance with the final results of this review. No earlier than 35 days after the date of publication of this notice in the Federal Register, Commerce intends to instruct CBP to liquidate any entries of subject merchandise from DCL that entered the United States during the POR at the China-wide rate (i.e., 149.92 percent). If a timely summons is filed at the U.S. Court of International Trade, the assessment instructions will direct CBP not to liquidate relevant entries until the time for parties to file a request for a statutory injunction has expired (i.e., within 90 days of publication).

Cash Deposit Requirements

The following cash deposit requirements will be effective upon publication of this notice in the Federal Register for all shipments of subject merchandise from China entered, or withdrawn from warehouse, for consumption on or after the publication date of this notice, as provided by section 751(a)(2)(C) of the Act: (1) for any previously investigated or reviewed Chinese or non-Chinese exporter that has a separate rate, the cash deposit rate will continue to be the exporter's existing cash deposit rate; (2) for all Chinese exporters of subject merchandise that do not have a separate rate, including DCL, the cash deposit rate will be equal to the dumping margin assigned to the China-wide entity, which is 149.92 percent; ³ and (3) for all non-Chinese exporters of subject merchandise that do not have a separate rate, the cash deposit rate will be equal to the dumping margin applicable to the Chinese exporter(s) that supplied that non-Chinese exporter. These cash deposit requirements, when imposed, shall remain in effect until further notice.

³ See Preliminary Results, 88 FR at 71825.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as the only reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

We are issuing and publishing the final results of this review in accordance with sections 751(a)(1) and 777(i) of the Act, and 19 CFR 351.213(h) and 351.221(b)(5).

Dated: February 2, 2024.
Abdelali Elouaradia,
Deputy Assistant Secretary for Enforcement and Compliance.

[FR Doc. 2024-02708 Filed 2-8-24; 8:45 am]

BILLING CODE 3510-DS-P